DEPARTMENT OF STATE

[Public Notice 5280]

Title: Statement of Policy on J-1 Flight Training Programs

AGENCY: Department of State.

ACTION: Statement of policy.

DATES: Effective Date: This policy is effective January 24, 2006.

FOR FURTHER INFORMATION CONTACT: Stanley S. Colvin, Director, Office of Exchange Coordination and Designation, U.S. Department of State, SA-44, 301 4th St., SW., Room 734, Washington, DC 20547. E-mail: jexchanges@state.gov; FAX: 202-203-5087.

SUMMARY: The Department hereby announces its policy regarding flight training programs, which are governed by the Department's Exchange Visitor Program regulations appearing in 22 CFR part 62.

Since 1949 the Department has designated private sector and governmental entities to conduct training programs for eligible foreign nationals. For the past twenty years, flight training activities have been authorized and currently, eight organizations facilitate the entry into the United States of some 350 foreign nationals yearly for the purpose of flight training. Flight training programs utilizing the J visa are regulated by the Department under the authority of the Mutual Educational and Cultural Exchange Act of 1961, as amended (Fulbright-Hays Act), 22 U.S.C. 2451 et seq.; the Immigration and Naturalization Act, 8 U.S.C. 1101(a)(15)(J); the Foreign Affairs Reform and Restructuring Act of 1998, Public Law 105-277; as well as other statutory enactments, Reorganization Plans and Executive Orders. Regulations dealing specifically with flight training programs appear at 22 CFR 62.22(n). Certain flight training programs also utilize the M visa, which is regulated and administered by the Department of Homeland Security's U.S. Citizenship and Immigration Services (USCIS). Regulations governing the M visa appear at 8 CFR 214.2(m).

The USA Patriot Act of 2001 (“The Uniting and Strengthening Act By Providing Appropriate Tools Required to Intercept and Obstruct Terrorism”), Public Law 107-56, mandated that the Department of State, the Department of Homeland Security, the Department of Education, and the Attorney General, all take cognizance of and undertake certain actions regarding flight training programs. The Department of State has determined that it does not have the expertise and resources to fully monitor flight training programs and insure their compliance with the national security concerns expressed in the Patriot Act. Consequently, as a matter of policy, the Department of State will henceforth not designate any new J visa flight training programs, nor will it permit currently-designated flight training programs to expand their programs, pending a determination as to which Federal agency ultimately will be tasked with the administering and monitoring of such programs. Redesignation of programs will continue as required by existing regulations.

Dated: January 18, 2006.
Stanley S. Colvin,
Director, Office of Exchange Coordination, Bureau of Educational and Cultural Affairs, Department of State.

[FR Doc. E6-821 Filed 1-23-06; 8:45 am]

BILLING CODE 4710-05-P